DEPARTMENT OF THE INTERIOR

Bureau of Land Management

[CACA 47740, LLCAD07000 L51030000]

Notice of Closure of Airport Mesa/Carizzo Creek Shooting Area in Eastern San Diego County, CA

AGENCY: Bureau of Land Management, Interior.

ACTION: Notice of temporary closure.

SUMMARY: The Bureau of Land Management (BLM) has closed approximately 210 acres of public land described as the Airport Mesa/Carrizo Creek shooting area located in eastern San Diego County, California. The closure order prohibits recreational shooting and target practice. The use of firearms will continue to be allowed for hunting consistent with California Department of Fish and Game regulations and seasons. This closure order is necessary in order to protect U.S. Border Patrol agents as they perform their duties along the top of Airport Mesa.

DATES: The closure order is effective as of September 23, 2009 until September 22, 2011.

FOR FURTHER INFORMATION CONTACT: Daniel Steward, BLM El Centro Field Office, 1661 S. 4th St., El Centro, CA 92243, telephone (760) 337-4400.

SUPPLEMENTARY INFORMATION: The BLM recognizes that recreational target shooting is a valid use of public lands and seeks to balance this with the need to provide for public safety. The BLM El Centro Field Office prepared an environmental assessment (EA) for this temporary closure (EA670-2010-1). This two-year temporary closure will allow the BLM to prepare a land use plan amendment and utilize public input to consider a permanent closure of the area and options for alternative recreational shooting areas.

The purpose of this closure order is to protect persons, property, and public land and resources, including the protection of U.S. Border Patrol agents as they perform their duties along the top of Airport Mesa.

The closure order is in accordance with the provisions of the Federal Land Policy and Management Act of 1976 (Pub. L. 94-579, 90 stat. 2743, 43 U.S.C. 1701 et seq.) and 43 CFR 8360.0-7. Maximum penalties for violation of this order are a $1,000 fine and/or 12 months in prison pursuant to 43 CFR 8360.0-7.

This order closes the following public lands in eastern San Diego County to recreational shooting and target practice:

San Bernardino Base and Meridian, California

T. 18 S., R. 8 E.,

Sec. 3, S ½ S ¼ SE ¼, portion south of Hwy. 80;

Sec. 10, N ½ NE ¼; SE ¼ NE ¼; Lot 9;

Sec. 11, SW ¼ NW ¼; Lot 12.

Containing 210 acres, more or less.

The following persons are exempt from the identified restrictions:

(1) Federal, State, or local law enforcement officers, while engaged in the execution of their official duties;

(2) Any person in receipt of a written authorization of exemption obtained from the authorized officer;

(3) Any person with a legal California hunting license in their possession and in the legal act of hunting.

This Notice and maps of the restricted area will be clearly posted at main entry points to the Airport Mesa shooting area and will also be available at the BLM El Centro Field Office.

Authority: 43 CFR 8364.1 and 8360.0-7.

Daniel Steward,
Acting El Centro Field Office Manager.

[FR Doc. 2010-8563 Filed 4-13-10; 8:45 am]

BILLING CODE 4310-40-P